DEPARTMENT OF AGRICULTURE

Forest Service

Flathead Resource Advisory Committee

AGENCY: Forest Service, USDA.

ACTION: Notice of meetings.

SUMMARY: The Flathead Resource Advisory Committee (RAC) will meet in Kalispell, Montana. The committee is authorized under the Secure Rural Schools and Community Self-Determination Act of 2000, (the Act) (Pub. L. 112-141) and operates in compliance with the Federal Advisory Committee Act (FACA) (Pub. L. 92-463). The purpose of the committee is to improve collaborative relationships and to provide advice and recommendations to the Forest Service concerning projects and funding consistent with the Title II of the Act. The meetings are open to the public. The purpose of the meetings is to hear project proposal presentations for 2015.

DATES: The meetings will be held from 4:00 p.m. to 6:30 p.m. on the following dates:

• August 26, 2014

• September 2, 2014

• September 9, 2014

• September 16, 2014

• September 23, 2014

All RAC meetings are subject to cancellation. For status of meeting prior to attendance, please contact the person listed under FOR FURTHER INFORMATION CONTACT.

ADDRESSES: The meetings will be held at the Flathead National Forest (NF) Supervisor's Office, 650 Wolfpack Way, Kalispell, Montana.

Written comments may be submitted as described under SUPPLEMENTARY INFORMATION listed below. All comments, including names and addresses when provided are placed in the record and are available for public inspection and copying. The public may inspect comments received at the Flathead NF Supervisor's Office. Please call ahead to facilitate entry into the building in order to view comments.

FOR FURTHER INFORMATION CONTACT: Wade Muehlhof, Designated Federal Officer, by phone at 406-758-5252 or by email at ewmuehlof@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Additional RAC information, including the meeting agenda and the meeting summary/minutes can be found at the following Web site: https://fsplaces.fs.fed.us/fsfiles/unit/wo/secure_rural_schools. The agenda will include time for people to make oral statements of three minutes or less. Individuals wishing to make an oral statement should request in writing by August 1, 2014 to be scheduled on the agenda. Anyone who would like to bring related matters to the attention of the committee may file written statements with the committee staff before or after the meeting. Written comments and requests for time for oral comments must be sent to Wade Muehlhof, RAC Designated Federal Officer, 650 Wolfpack Way, Kalispell, Montana 59901; by email to ewmuehlhof@fs.fed.us or via facsimile to 406-758-5351.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: July 25, 2014.
Chip Weber,
Forest Supervisor.

[FR Doc. 2014-18668 Filed 8-6-14; 8:45 am]

BILLING CODE 3411-15-P